DEPARTMENT OF ENERGY

Federal Energy Regulatory Commission

[Docket No. AD15-11-000]

Electronic Filing Protocols for Commission Forms; Supplemental Notice of Conference With North American Energy Standards Board

As announced in the Notice of Technical Conference issued on May 1, 2015, the Federal Energy Regulatory Commission (Commission) staff will lead a technical conference that will include the North American Energy Standards Board (NAESB) and interested members of the public and industry to discuss the transition to a new submission format for certain forms required by the Commission,¹ and NAESB's assistance in that process. The agenda for the technical conference is as follows:

¹ Forms 1, 1-F, 2, 2-A, 3-Q electric, 3-Q natural gas, 6, 6-Q, FERC-60, and FERC-714.

10:00 a.m.-10:15 a.m. Opening Remarks from Chairman Norman Bay

10:15 a.m.-10:45 a.m. FERC Staff Overview Presentation

10:45 a.m.-11:15 a.m. FERC Staff IT Presentation

11:15 a.m.-11:45 a.m. North American Energy Standards Board Presentation

11:45 a.m. Question & Answer Session

Conferences held at the Federal Energy Regulatory Commission are accessible under section 508 of the Rehabilitation Act of 1973. For accessibility accommodations please send an email to accessibility@ferc.gov or call toll free 1-866-208-3372 (voice) or 202-502-8659 (TTY), or send a FAX to 202-208-2106 with the required accommodations.

Prior to the conference, Commission staff will post conference materials on the Commission's Web site, www.ferc.gov (navigate to Documents & Filings, then Forms, then eForms Refresh). The conference will also be webcast and transcribed. The webcast will be available through a link on the Commission's Calendar of Events, available at http://www.ferc.gov. An email account has been created for off-site participants to submit questions for the question and answer session at the technical conference. Please email questions at any time to eForms.Refresh@ferc.gov.

For more information about this conference please contact Robert Hudson (Technical Information), Office of Enforcement, at (202) 502-6620 or Robert.Hudson@ferc.gov or Sarah McKinley (Logistical Information), Office of External Affairs at (202) 502-8368 or Sarah.McKinley@ferc.gov.

Dated: May 29, 2015.
Nathaniel J. Davis, Sr.,
Deputy Secretary.

[FR Doc. 2015-13725 Filed 6-4-15; 8:45 am]

BILLING CODE 6717-01-P